DEPARTMENT OF TRANSPORTATION

Federal Aviation Administration

14 CFR Part 71

[Docket No. FAA-2025-1187; Airspace Docket No. 24-AWP-84]

RIN 2120-AA66

Modification and Revocation of Class E Airspace; Hawaiian Islands, HI; Correction

AGENCY: Federal Aviation Administration (FAA), DOT.

ACTION: Final rule; correction.

SUMMARY: This action corrects a final rule the FAA published in the Federal Register on November 26, 2025, that modified Class E airspace extending upward from 700 feet above the surface and the Class E airspace area designated as an extension to a Class D or Class E surface area at Ellison Onizuka Kona International at Keahole Airport (KOA), Kailua-Kona, HI. This action makes ministerial corrections to geographic coordinates.

DATES: The effective date of the final rule published in the Federal Register on November 26, 2025 (90 FR 54228) remains January 22, 2026, 0901 UTC. The Director of the Federal Register approves this incorporation by reference action under 1 CFR part 51, subject to the annual revision of FAA Order JO 7400.11, Airspace Designations and Reporting Points, and publication of conforming amendments.

ADDRESSES: A copy of the notice of proposed rulemaking (NPRM), all comments received, the final rule, this final rule correction, and all background material may be viewed online at www.regulations.gov using the FAA Docket number. Electronic retrieval help and guidelines are available on the website. It is available 24 hours each day, 365 days each year. An electronic copy of this document may also be downloaded from www.federalregister .gov.

FAA Order JO 7400.11K, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith Adams, Federal Aviation Administration, Western Service Center, Operations Support Group, 2200 S 216th Street, Des Moines, WA 98198; telephone (206) 231-2428.

SUPPLEMENTARY INFORMATION:

History

The FAA published a final rule in the Federal Register (90 FR 54228; November 26, 2025), which modified the Class E airspace area extending upward from 700 feet or more above the surface and Class E airspace area designated as an extension to a Class D or Class E surface area at KOA. Subsequent to publication, and following a recent survey, the FAA amended the geographic coordinates for KOA. Accordingly, the updated geographic location will now serve as the point of origin from which the Class E airspace area boundaries are derived, no longer requiring reference to the Point in Space Alpha fix that appeared in the KOA's airspace legal description in the final rule. This action is administrative only and corrects the coordinates.

Correction to the Final Rule

Accordingly, pursuant to the authority delegated to me, Modification and Revocation of Class E Airspace; Hawaiian Islands, HI, published in the Federal Register on November 26, 2025 (90 FR 54228), is corrected as follows:

§ 71.1 [Corrected]

1. On page 54230, in the first column under the heading “AWP HI E4 Kailua-Kona, HI [Amended]”, the text is corrected to read as follows:

AWP HI E4 Kailua-Kona, HI [Amended]

Ellison Onizuka Kona International at Keahole Airport, HI

(Lat. 19°44′00″ N, long. 156°02′46″ W)

(Lat. 19°44′20″ N, long. 156°02′44″ W)

(Lat. 19°44′20″ N, long. 156°02′44″ W)

That airspace extending upward from the surface within 2.8 miles each side of the airport 186° bearing extending from the airport 4.3-mile radius to 5.7 miles south, and within 3.6 miles each side of the airport 002° bearing extending from the Point in Space Alpha 4.3-mile radius to 9.5 miles north.

2. On page 54230, in the second column, under the heading “AWP HI E5 Kailua-Kona, HI, [Amended]”, the text is corrected to read as follows:

AWP HI E5 Kailua-Kona, HI [Amended]

Ellison Onizuka Kona International at Keahole Airport, HI

(Lat. 19°44′00″ N, long. 156°02′46″ W)

(Lat. 19°44′20″ N, long. 156°02′44″ W)

(Lat. 19°44′20″ N, long. 156°02′44″ W)

That airspace extending upward from 700 feet above the surface within a 7.4-mile radius of the airport, and within 4 miles each side of the airport 002° bearing extending from the 7.4-mile radius to 11 miles north; and that airspace extending upward from 1,200 feet above the surface within 12 miles off the coastline of the Island of Hawaii.

Issued in Des Moines, Washington, on December 8, 2025.
B.G. Chew,
Group Manager, Western Service Center, Operations Support Group.

[FR Doc. 2025-22501 Filed 12-10-25; 8:45 am]

BILLING CODE 4910-13-P